DEPARTMENT OF COMMERCE

National Oceanic and Atmospheric Administration

50 CFR Part 300

[Docket No. 070119012-7077-02; I.D. 031307B]

RIN 0648-AU78

Pacific Albacore Tuna Fisheries; Vessel List to Establish Eligibility to Fish for Albacore Tuna in Canadian Waters Under the U.S. Canada Albacore Tuna Treaty

AGENCY: National Marine Fisheries Service (NMFS), National Oceanic and Atmospheric Administration (NOAA), Commerce.

ACTION: Final rule.

SUMMARY: NMFS issues this final rule to develop a new vessel list at the beginning of each calendar year of U.S. vessels eligible to fish for albacore tuna in Canadian waters. The vessel list would revert to zero vessels on December 31 of each year, unless NMFS receives a notice for a vessel to be added to the list for the upcoming year, with the requisite information. This regulation would clarify that the vessel list will remain valid for a single calendar year. Updating the list every year will facilitate the United States' obligation to annually provide Canada a current list of U. S. vessels that are likely to fish albacore off the coast of Canada. The proposed rule is adopted without change.

DATES: This final rule will be effective May 17, 2007.

ADDRESSES: You may submit requests to be placed on the annual list of U.S. vessels eligible to fish for albacore tuna in Canadian waters, by any of the following methods:

• E-mail: albacore.fish@noaa.gov.

• Mail: Rodney R. McInnis, Regional Administrator, Southwest Region, NMFS, 501 West Ocean Blvd., Suite 4200, Long Beach, CA 90802-4213.

• Phone: (562)980-4024.

• Fax: (562) 980-4047.

Written comments regarding the burden-hour estimates or other aspects of the collection-of-information requirements contained in this final rule may be submitted to NMFS Southwest Region and by e-mail to David_Rostker@omb.eop.gov, or fax to (202) 395-7285.

FOR FURTHER INFORMATION CONTACT: Chris Fanning, Southwest Region, NMFS, (562) 980-4198 or (562) 980-4030.

SUPPLEMENTARY INFORMATION: On February 7, 2007, NMFS published a proposed rule (72 FR 5652) proposing to revise the methodology to create a vessel list for vessels eligible to fish for albacore tuna in Canadian waters. The proposed rule is adopted without change. The 1981 Treaty Between the Government of the United States of America and the Government of Canada on Pacific Coast Albacore Tuna Vessels and Port Privileges (Treaty), as amended in 2002, establishes a number of obligations for both countries to control reciprocal fishing in waters of one country by vessels of the other country. One obligation requires each country to annually provide to the other country a list of its fishing vessels that are expected to fish for Pacific albacore tuna off the coast of the other country during the upcoming fishing season, generally June through October each year.

As described in the 2004 final rule implementing amendments to the Treaty (69 FR 31531, June 4, 2004), and codified at 50 CFR 300.172, the list must include vessel and owner name, address, and phone number; USCG documentation number (or state registration if not documented); vessel operator (if different from the owner) and his or her address with phone number. Each U.S. vessel must be on the list for at least 7 days prior to engaging in fishing under the Treaty. This is intended to ensure that both countries have equal information as to eligible vessels. Canadian and U.S. enforcement officers need up-to-date lists of eligible vessels to adequately enforce the Treaty. Vessel owners who wish their vessels to remain on, or be added to the vessel list must contact NMFS (see ADDRESSES) and provide the required information. NMFS will notify fishermen via a confirmation letter or email of the date the request to be on the list was received and the date the vessel was placed on the list.

Before the 2006 fishing season (June through October), NMFS did not require owners of albacore fishing vessels that wanted their vessels to be on the list of U. S. vessels eligible to fish for albacore tuna in Canadian waters under the Treaty, to contact NMFS. Instead, NMFS relied on a lengthy list created from information provided by the industry that was not readily verifiable and did not indicate whether each vessel owner actually wished to fish for albacore tuna in Canada for any given year. The result was that NMFS was not able to provide the Canadian Government an updated vessel list of vessels owners who intended to fish for albacore tuna in Canada for a particular fishing season. With this final rule, NMFS would amend 50 CFR 300.172 to state explicitly that the vessel list is effective for only one calender year and will be recompiled beginning on January 1 of each year. Additional vessels may be added to the list throughout the year in accordance with 50 CFR 300.172.

Comments and Responses

A proposed rule to implement this action was published on February 7, 2007, at 72 FR 5652 and comments were solicited through March 9, 2007. No comments or responses were received.

Classification

The Regional Administrator, NMFS Southwest Region, determined that this final rule is consistent with the Magnuson-Stevens Fishery Conservation and Management Act, 16 U.S.C. 1801 et seq.

This final rule has been determined to be not significant for the purposes of Executive Order (E.O.) 12866.

The Chief Counsel for Regulation of the Department of Commerce certified to the Chief Counsel for Advocacy of the Small Business Administration during the proposed rule stage (72 FR 5652) that this action would not have a significant economic impact on a substantial number of small entities. The factual basis for the certification was published in the proposed rule and is not repeated here. No comments were received regarding this certification. As a result, a regulatory flexibility analysis was not required and none was prepared.

This final rule for revising the methodology for developing the list of vessels eligible to fish for albacore tuna in Canadian waters under the U.S. Canada Albacore Tuna Treaty presents contains a collection-of-information requirement subject to the Paperwork Reduction Act (PRA) that has been approved by OMB under control number 0648-0492. Public reporting burden for requesting to be placed on the list of vessels eligible to fish in Canadian waters is estimated to average 0.08 hours per vessel or about 5 minutes each, including the time for reviewing instructions, searching existing data sources, gathering and maintaining the data needed, and completing and reviewing the collection of information. Send comments regarding this burden estimate, or any other aspect of this data collection, including suggestions for reducing the burden, to NMFS (see ADDRESSES) and by e-mail to David_Rostker@omb.eop.gov, or fax to (202) 395-7285.

Notwithstanding any other provision of the law, no person is required to respond to, nor shall any person be subject to a penalty for failure to comply with, a collection of information subject to the requirements of the PRA, unless that collection of information displays a currently valid OMB Control Number.

List of Subjects in 50 CFR Part 300

Fisheries, High seas fishing, International agreements, Permits, Reporting and recordkeeping requirements.

Dated: April 11, 2007.
Samuel D. Rauch III,
Deputy Assistant Administrator for Regulatory Programs, National Marine Fisheries Service.

For the reasons set out in the preamble, 50 CFR part 300 is amended as follows:

PART 300—INTERNATIONAL FISHERIES REGULATIONS

Subpart L—Pacific Albacore Tuna Fisheries

1. The authority citation for part 300 subpart L continues to read as follows:

Authority: Sec. 401, Pub. L. 108-219, 118 Stat. 616 (16 U.S.C. 1821 note).

2. Section 300.172 is revised to read as follows:

§ 300.172 Vessel list.

The “vessel list” is the list of U.S. vessels that are authorized to fish under the Treaty as amended in 2002. Only a vessel on the list for at least 7 days may engage in fishing in Canadian waters under the Treaty as amended in 2002. The owner of any U.S. vessel that wishes to be eligible to fish for albacore tuna under the Treaty as amended in 2002 must provide the Regional Administrator or his designee with the vessel name, the owner's name and address, phone number where the owner can be reached, the USCG documentation number (or state registration number if not documented), and vessel operator (if different from the owner) and his or her address and phone number. On the date that NMFS receives a request that includes all the required information, NMFS will place the vessel on the annual vessel list. NMFS will notify fishermen by a confirmation letter or email of the date the vessel was placed on the list. Because the vessel list will revert to zero vessels on December 31 of each year, the required information must be provided in the manner specified on an annual basis.

[FR Doc. E7-7293 Filed 4-16-07; 8:45 am]

BILLING CODE 3510-22-S